GENERAL SERVICES ADMINISTRATION

[Notice-MK-2013-05; Docket No. 2013-0002; Sequence 20]

The Presidential Commission on Election Administration (PCEA); Upcoming Public Advisory Meeting

AGENCY: Office of Government-wide Policy, U.S. General Services Administration (GSA).

ACTION:

Meeting notice.

SUMMARY: The Presidential Commission on Election Administration (PCEA), a Federal Advisory Committee established in accordance with the Federal Advisory Committee Act (FACA), 5 U.S.C., App., and Executive Order 13639, as amended by EO 13644, will hold a meeting open to the public on Friday, June 28, 2013.

DATES: Effective date: June 12, 2013.

Meeting date: The meeting will be held on Friday, June 28, 2013, beginning at 9:00 a.m. eastern time, ending no later than 5:00 p.m.

FOR FURTHER INFORMATION CONTACT: Mr. Mark Nejbauer, Designated Federal Officer, President's Commission on Election Administration, GSA, 1776 G Street NW., Washington, DC 20006, email mark.nejbauer@supportthevoter.gov.

SUPPLEMENTARY INFORMATION: Background: The PCEA was established to identify best practices and make recommendations to the President on the efficient administration of elections in order to ensure that all eligible voters have the opportunity to cast their ballots without undue delay, and to improve the experience of voters facing other obstacles in casting their ballots.

Agenda: The purpose of this meeting is for the PCEA to receive information to assist its members in collecting information and data relevant to its deliberations on the subjects set forth in Executive Order 13639, as amended.

The agenda will be as follows:

• Introductions & Statement of Plan for The Meeting

• Testimony by local, county and state election officials

• Receipt of reports by experts in some of the subject areas detailed in Executive Order 13639

• Comments by interested members of the public

Meeting Access: The PCEA will convene its meeting in the David W. Dyer U.S. Courthouse, 300 Northeast 1st Avenue, Miami, Florida 33132. This site is accessible to individuals with disabilities. The meeting may also be Webcast or made available via audio link. Please refer to PCEA's Web site, http://www.supportthevoter.gov, for the most up-to-date meeting agenda and access information.

Attendance at the Meeting: Individuals interested in attending the meeting must register in advance because of limited space. Please contact Mr. Nejbauer at the email address above to register to attend this meeting and obtain meeting materials. Materials may also be accessed online at http://www.supportthevoter.gov. To attend this meeting, please submit your full name, organization, email address, and phone number to Mark Nejbauer by 5:00 p.m. eastern standard time on Tuesday, June 25, 2013. Detailed meeting minutes will be posted within 90 days of the meeting.

Procedures for Providing Public Comments: In general, public comments will be posted on the PCEA Web site (see above). All comments, including attachments and other supporting materials, received are part of the public record and subject to public disclosure. Any comments submitted in connection with the PCEA meeting will be made available to the public under the provisions of the Federal Advisory Committee Act.

Contact Mark Nejbauer at mark.nejbauer@supportthevoter.gov to register to comment during the meeting's public comment period. Registered speakers/organizations will be allowed a maximum of 3 minutes each due to limited time for individual comments. Written copies providing expanded explanations of oral presentations are encouraged. Requests to comment at the meeting must be received by 5:00 p.m. eastern standard time on Tuesday, June 25, 2013.

The public is invited to submit written comments for this meeting until 5:00 p.m. eastern time on Tuesday, June 25, 2013, by either of the following method:

Electronic or Paper Statements: Submit electronic statements to Mr. Nejbauer, Designated Federal Officer at mark.nejbauer@supportthevoter.gov; or send three (3) copies of any written statements to Mr. Nejbauer at the PCEA GSA address above. Written comments not received by 5:00 p.m. eastern time on June 25, 2013 may be submitted but will not be considered at the June 28, 2013 meeting.

Dated: June 7, 2013.
Laura Auletta,
Acting Associate Administrator, Office of Government-wide Policy, General Services Administration.

[FR Doc. 2013-13959 Filed 6-11-13; 8:45 am]

BILLING CODE 6820-14-P